DEPARTMENT OF THE INTERIOR

Bureau of Indian Affairs

Draft Environmental Impact Statement for the Mandan, Hidatsa, Arikara (MHA) Nation's Proposed Clean Fuels Refinery, Fort Berthold Indian Reservation, Ward County, ND

AGENCY: Bureau of Indian Affairs, Interior.

ACTION: Notice.

SUMMARY: This notice advises the public that the Bureau of Indian Affairs (BIA) as lead agency, with the U.S. Environmental Protection Agency (EPA) as co-lead agency, and the Mandan, Hidatsa and Arikara (MHA) Nation and the U.S. Army Corps of Engineers as cooperating agencies, intends to file a Draft Environmental Impact Statement (DEIS) with the EPA for the proposed Clean Fuels Refinery, and that the DEIS is now available for public review. The proposed federal actions are: (1) The taking into trust of 469 acres of fee land by the BIA in support of the MHA Nation's proposal to construct and operate a clean fuels refinery and produce buffalo forage; and (2) the issuance by the EPA of a Clean Water Act, Draft National Pollutant Discharge Elimination System Discharge (NPDES) permit for the discharge of treated wastewater from the proposed refinery. This notice also advises the public of the availability of the Draft NPDES permit (#ND-0030988) for review, and announces public hearings on the DEIS and Draft NPDES permit.

DATES: Written comments on the DEIS and/or Draft NPDES permit must arrive by August 29, 2006. The public hearings will be held July 31 through August 4, 2006, from 7 p.m. to 9 p.m., and August 5, 2006 (two meetings), from 10 a.m. to 2 p.m. and from 2 p.m. to 4 p.m. No hearing will close, however, before all those who wish to make statements have been heard.

ADDRESSES: You may mail, hand carry, or telefax written comments on the DEIS to William Benjamin, Regional Director, Great Plains Region, Attn: Diane Mann-Klager MC 301, Bureau of Indian Affairs, 115 4th Avenue SE, Aberdeen, South Dakota 57401, Telefax: 605-226-7358.

You may mail, hand carry, or telefax written comments on the Draft NPDES permit to Bruce Kent, U.S. Environmental Protection Agency, Region 8 (8P-W-P), 999 18th St., Suite 300, Denver, Colorado 80202-2466, Telefax: 303-312-7984.

The addresses for the public hearings are as follows:

July 31, 2006: Twin Buttes Segment Office, 79 E. Avenue, NW, Halliday, ND.

August 1, 2006: Ralph Well, Jr. Memorial Complex, 1620 61st Avenue, NW, Roseglen, ND.

August 2, 2006: Parshall Veterans Memorial Community Building, 315 2nd St. SE, Parshall, ND.

August 3, 2006: Mandaree Community Center, 4th Avenue, NE, 404 Ridge Road, Mandaree, ND.

August 4, 2006: Four Bears Casino, 202 Frontage Road, New Town, ND.

August 5, 2006 (10 a.m.): New Town North Segment Community Building, 710 East Avenue, New Town, ND.

August 5, 2006 (2 p.m.): Makoti Pioneer Senior Citizen's Center, 240 Main Street, Makoti, ND.

The DEIS and Draft NPDES permit are available for public review at the following locations:

• Bureau of Indian Affairs, Great Plains Regional Office, 115 4th Avenue, SE, Aberdeen, SD.

• Bureau of Indian Affairs, Fort Berthold Agency. 202 Main Street, New Town, ND.

• EPA Region 8 Library, 999 18th Street, 1st Floor, Denver Place Building, Denver, CO.

• Three Affiliated Tribes, Legal Department, 404 Frontage Road, New Town, ND.

• Twin Buttes Segment Office, 79 E. Avenue, NW., Halliday, ND.

• White Shield Segment Office, 1620 61st Avenue, NW., Roseglen, ND.

• Parshall Segment Office, 315 2nd Street, SE., Parshall, ND.

• Mandaree Segment Office, 4th Avenue, NE, 404 Ridge Road, Mandaree, ND.

• Four Bears Segment Office, 404 Frontage Road, New Town, ND.

• North Segment Office, 710 East Avenue, New Town, ND.

• Three Affiliated Tribes, Office of the Secretary, 404 Frontage Road, New Town, ND.

The DEIS and Draft NPDES permit are also available on the following Web sites: http://www.epa.gov/region8/compliance/nepa and http://www.MHANation.com.

If you would like to obtain a copy of the DEIS and/or Draft NPDES permit, please write to Diane Mann-Klager at the address provided above for the BIA Great Plains Regional Office, or to Monica Morales, EPA Region 8, 999 18th Street, Suite 300, Denver, CO 80202-2466, or call the corresponding numbers provided below. Copies of the NPDES permit application as well as an accompanying Fact Sheet are also available upon request at the above EPA address. The administrative record for the NPDES permit, which includes data submitted by the applicant, is located at, and available upon request from this same EPA address.

FOR FURTHER INFORMATION CONTACT: Requests for information on the DEIS should be directed to Diane Mann-Klager, 605-226-7621 or Monica Morales, 303-312-6936 or 800-227-8917. You may request information on the Draft NPDES permits from Bruce Kent, 303-312-6133.

SUPPLEMENTARY INFORMATION: On February 5, 2003, the Three Affiliated Tribes Business Council, representing the MHA Nation, voted to purchase three tracts of land in the northeast corner of the Fort Berthold Indian Reservation. These tracts are located along Highway 23, four miles west of the town of Makoti in Ward County, North Dakota. The tracts include the NW ¼ of Section 20, Township 152 North, Range 87 West (Tract 1); the North ½ of Section 19, Township 152 North, Range 87 West (Tract 2); and Outlot 1 in the NE ¼ of Section 19, Township 152 North, Range 87 West (Tract 3). Taken together as a single parcel, these tracts encompass almost 469 acres. Following the purchase, the MHA Nation requested that the Department of the Interior, BIA, accept the tracts into trust status. The Indian Reorganization Act of 1935 authorizes the Secretary of the Interior to hold land for Indian Tribes and individual Indians in trust.

The MHA Nation proposes to use the 469 acres for two purposes. First, it would construct, own, operate, and maintain a clean fuels refinery on 190 acres of the 469-acre parcel. Second, it would grow forage for buffalo on the other acres, in order to reduce the costs of purchasing feed from other sources. This project is needed for the MHA Nation to pursue an economic development opportunity to benefit its members, in keeping with its tribal sovereignty.

Feedstock for the proposed refinery would include 10,000 barrels per stream day (BPSD) of synthetic crude oil via existing pipeline from Alberta, Canada; 3,000 BPSD of field butane from local suppliers; 6 million standard cubic feet per day of natural gas via existing pipeline; and 300 barrels of bio-diesel or 8,500 bushels per day of soybeans. From the feedstock, the refinery would produce about 5,750 BPSD of diesel fuel, 6,770 BPSD of gasoline, and 300 BPSD of propane. With the planned maintenance program, the refinery would have an economic life well past 20 years. At the end of its economic life, MHA Nation would decommission and reclaim the facility.

The proposed refinery would include atmospheric distillation, hydrotreating, and hydrocracking processing units for the synthetic crude, a hydrogen plant utilizing natural gas, and butane processing units. Other areas of the proposed refinery include rail and truck loading and unloading facilities, a tank farm, blending facilities, office and maintenance buildings and a fire suppression system. Potentially contaminated (oily) storm water will be managed separately from uncontaminated (non-oily) storm water.

The applicant proposes to discharge effluent from four discharge points (outfalls) into a wetland located in the NW ¼ of Section 19, Township 152N, Range 87W. The wetland is a tributary of the East Fork of Shell Creek, which is a tributary to the Missouri River. The responsible official for the proposed permit application is, Tex G. Hall, Chairman, Three Affiliated Tribes Business Council, 404 Frontage Road, New Town, North Dakota 58763.

The DEIS describes, in detail, and analyzes the impacts of five alternatives for the BIA's action. These alternatives are as follows:

(1) Accept lands into trust in support of the MHA Nation's proposal to construct and operate a clean fuels refinery and produce buffalo forage;

(2) Accept lands into trust without construction or operation of a clean fuels refinery;

(3) Decline acceptance of lands into trust, but construction or operation of a clean fuels refinery may proceed;

(4) Accept lands into trust in support of the MHA Nation's proposal to construct and operate a clean fuels refinery with modification to the original design; and

(5) No action.

The DEIS also describes five effluent discharge alternatives for EPA's action. These alternatives are as follows:

(1) Issuance of an NPDES permit for effluent discharge of treated wastewater;

(2) No issuance of an NPDES permit, but disposal of treated wastewater through irrigation and effluent storage during the winter and wet weather;

(3) Issuance of an NPDES permit for partial effluent discharge from the facility and some storage and irrigation;

(4) No issuance of an NPDES permit, but effluent discharge to an Underground Injection Control Class I well; and

(5) No action.

Any person may submit comments on the DEIS and/or Draft NPDES permit in writing to the address provided in the ADDRESSES section, or either orally and/or in writing at one or more of the public hearings. A Presiding Officer will be present at each of the hearings and a written transcript of the hearings will be made a part of the administrative record for the agency decisions. The hearings will be recorded so that if anyone testifies in their native language, it can be interpreted and transcribed for inclusion in the administrative record.

Please make comments as specific as possible, with reference to chapters, page numbers and paragraphs in the DEIS document and Draft NPDES permit. While all comments will be considered, the most useful comments will contain new technical or scientific information, identify data gaps in the impact analysis, or provide technical or scientific rationale for opinions or preferences.

Public Comment Availability

Comments, including names and addresses of respondents, will be available for public review at the BIA and EPA Regional Office addresses shown in the ADDRESSES section, during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with section 1503.1 of the Council on Environmental Quality Regulations (40 CFR Parts 1500 through 1508) implementing the procedural requirements of the National Environmental Policy Act of 1969, as amended (42 U.S.C. 4321 et seq.), and the Department of the Interior Manual (516 DM 1-6), and is in the exercise of authority delegated to the Principal Deputy Assistant Secretary—Indian Affairs by 209 DM 8.

Dated: April 7, 2006.
Michael D. Olsen,
Acting Principal Deputy Assistant Secretary—Indian Affairs.

[FR Doc. 06-5818 Filed 6-28-06; 8:45 am]

BILLING CODE 4310-W7-P